DEPARTMENT OF THE TREASURY

Office of Foreign Assets Control

Information Collection; Comment Request

ACTION: Federal Register pre-clearance notice.

SUMMARY: The Department of the Treasury, as part of its continuing effort to reduce paperwork and respondent burden, invites the general public and other Federal agencies to take this opportunity to comment on continuing information collections, as required by the Paperwork Reduction Act of 1995, Public Law 104-13 (44 U.S.C. 3506 (c)(2)(A)). Currently, the Treasury Department's Office of Foreign Assets Control is soliciting comments concerning the information collection provisions of the Iraqi Sanctions Regulations, 31 CFR 575.523, 575.524, and 575.525.

DATES: Written comments should be received on or before September 5, 2000, to be assured of consideration.

ADDRESSES: Direct all written comments to Merete M. Evans, Staff Assistant to the Director, Office of Foreign Assets Control, U.S. Department of the Treasury, 1500 Pennsylvania Avenue, NW., Washington, DC 20220, (tel.: 202/622-2500).

FOR FURTHER INFORMATION CONTACT: David W. Mills, Chief, Policy Planning and Program Management (tel.: 202/622-2500); Dennis P. Wood, Chief, Compliance Programs Division (tel.: 202/622-2490); Mrs. B.S. Scott, Chief, Penalties Program (tel.: 202/622-6140); or Barbara C. Hammerle, Acting Chief Counsel (tel.: 202/622-2410); Office of Foreign Assets Control, U.S. Department of the Treasury, Washington, DC 20220.

SUPPLEMENTARY INFORMATION: Title: Iraqi Sanctions Regulations.

OMB Number: 1505-0130.

Abstract: Sections 575.523, 575.524, and 575.525 in Subpart E, impose information collection requirements subject to the Paperwork Reduction Act of 1995, Pub. L. 104-13 (44 U.S.C. 3506(c)(2)(A) (copies are attached)). Section 575.523 provides a statement of licensing policy for U.S. persons seeking to purchase petroleum and petroleum products from the Government of Iraq or Iraq's State Oil Marketing Organization (“SOMO”) pursuant to UNSC Resolution 986, other relevant Security Council resolutions, and guidance provided by the 661 Committee.

Sections 575.524 and 575.525 provide statements of licensing policy for the exportation to Iraq of pipeline parts and equipment necessary for the safe operation of the Iraqi portion of the Kirkuk-Yumurtalik pipeline system, and the sale of humanitarian aid to Iraq.

Current Actions: Extension.

Type of Review: Extension.

Affected Public: Businesses and other for-profit institutions/banking institutions/individuals.

Estimated Number of Respondents: 150 respondents.

Estimated Time Per Respondent: 1 hour to process.

Estimated Annual Burden Hours: 150 hours.

Request for Comments

Comments submitted in response to this notice will be summarized and/or included in the request for OMB approval. All comments will become a matter of public record. Comments are invited on: (a) Whether the collection of information is necessary for the proper performance of the agency's functions, including whether the information has practical utility; (b) the accuracy of the agency's estimate of the burden of the collection of information; (c) ways to enhance the quality, utility, and clarity of the information to be collected; (d) ways to minimize the burden of the collection of information on respondents, through the use of automated collection techniques or other forms of information technology; and (e) estimates of capital or start-up costs and costs of operation, maintenance, and purchase of services to provide information.

Barbara C. Hammerle,
Acting Chief Counsel, Office of Foreign Assets Control, Department of the Treasury.

[FR Doc. 00-17126 Filed 6-30-00; 3:59 pm]

BILLING CODE 4810-25-U